DEPARTMENT OF HEALTH AND HUMAN SERVICES

Substance Abuse and Mental Health Services Administration

Request for Comment From the Field on the Substance Abuse and Mental Health Services Administration's (SAMHSA) Addiction Technology Transfer Center (ATTC) Program

AGENCY: Substance Abuse and Mental Health Services Administration, HHS.

SUMMARY: This notice is to request comments from interested stakeholders in the substance use disorders treatment field regarding SAMHSA's ATTC Program. SAMHSA will be issuing a Request for Applications (RFA) for a new round of competitive cooperative agreement awards under the ATTC program in Federal fiscal year (FFY) 2007. To assist SAMHSA in developing the RFA, SAMHSA is seeking input from stakeholders and interested parties on a number of issues relating to these cooperative agreements.

Program Title: Addiction Technology Transfer Centers (ATTC) Program.

Catalog of Federal Domestic Assistance (CFDA) Number: 93.243.

Authority: Section 5001(d)(5) of the Public Health Service Act, as amended.

FOR FURTHER INFORMATION CONTACT: Catherine D. Nugent, SAMHSA/CSAT/DSI, 1 Choke Cherry Road, Room 5-1079, Rockville, MD 20857, phone: 240-276-1577, e-mail: cathy.nugent@samhsa.hhs.gov.

Introduction

The Substance Abuse and Mental Health Services Administration (SAMHSA) is committed to building resilience and facilitating recovery for people with or at risk for substance use and mental disorders. SAMHSA collaborates with the States, national associations, local community-based and faith-based organizations, and public and private sector providers to implement initiatives in its priority areas, including development of the workforce serving individuals needing treatment and recovery for substance use disorders. The Center for Substance Abuse Treatment (CSAT) supports training and technology transfer activities to promote the adoption of evidence-based practices in substance use disorders treatment and, more broadly, to promote workforce development in the addiction treatment field. CSAT's Addiction Technology Transfer Centers (ATTCs), funded by CSAT since 1993, are a major component of SAMHSA/CSAT's workforce development efforts.

The ATTC Network is dedicated to identifying and advancing opportunities for improving addiction treatment. The vision of the ATTCs is to unify science, education and services to transform the lives of individuals and families affected by alcohol and other drug addition.

Serving the 50 States, the District of Columbia, Puerto Rico, the U.S. Virgin Islands and the Pacific Islands, the ATTC Network operates as 14 individual Regional Centers and a National Office. At the regional level, individual Centers focus primarily on meeting the unique needs in their areas while also supporting national initiatives. The National Office leads the Network in implementing national initiatives and concurrently supports and promotes individual regional efforts.

The current ATTC program is funded through cooperative agreements initially awarded in 2001 and 2002. These cooperative agreements will end in FFY 2007. SAMHSA/CSAT will be issuing a new funding announcement to re-compete the ATTCs in FY 2007. To assist CSAT in designing the requirements and parameters for the next round of ATTCs, CSAT is requesting comments on the directions and priorities for the ATTC program and on meeting the workforce development needs of the addiction treatment field in an equitable manner across all the States, the District of Columbia, the Carribean Islands, and Pacific Islands.

DATES: Submit all comments on or before September 11, 2006.

ADDRESSES: Address all comments concerning this notice to: Catherine D. Nugent, SAMHSA/CSAT/DSI (ATTC Notice), 1 Choke Cherry Road, Room 5-1079, Rockville, MD 20857.

Electronic Access and Filing Address: You may submit comments by sending electronic mail (e-mail) to cathy.nugent@samhsa.hhs.gov.

Overview

The ATTC Network undertakes a broad range of initiatives that respond to emerging needs and issues in the substance use disorders treatment field. The ATTC Network is funded to upgrade the skills of existing practitioners and other health professionals and to disseminate the latest science to the treatment community. Resources are expended to create a variety of products and services that are timely and relevant to the many disciplines represented by the addiction treatment workforce.

Background

History

SAMHSA/CSAT funded 11 centers, which were known as the Addiction Training Centers (ATCs), in 1993. These ATCs covered 19 States and Puerto Rico. In 1995, SAMHSA expanded the program to cover six additional States, which brought the total number of States served to 25. In 1996, the program was renamed the Addiction Technology Transfer Center (ATTC) program. In 1998, a new round of cooperative agreements was funded and the ATTC network was expanded to include 13 Regional Centers and a National Office, serving 39 States, the District of Columbia, Puerto Rico, and the U.S. Virgin Islands. New cooperative agreements were funded in 2001 and 2002 for 14 ATTC Regional Centers and a National Office covering all 50 States, the District of Columbia, Puerto Rico, the U.S. Virgin Islands, and the Pacific Islands. The funding announcements for the ATTC cooperative agreements awarded in 2001 and 2002 may be found on the SAMHSA Web site, http://www.samhsa.gov. Click on “Grants” at the top of the page and then on “SAMHSA Grant Archives” to find a listing of SAMHSA funding announcements for 2001 and 20021.

Purpose of the ATTCs

The primary purpose of the ATTCs is to enhance professional development by training the addiction treatment workforce to use evidence-based practices in providing treatment services and to train allied health professionals on the interdisciplinary foundation of addiction treatment, In 2001 and 2002, the ATTCs were tasked with the following:

• Building and maintaining collaborative networks with academic institutions, State and local governments, substance abuse/mental health/primary care fields, counselor credentialing boards, professional, recovery, community and faith-based organizations, managed care and criminal justice entities;

• Creating linkages with and disseminating research from the National Institute on Drug Abuse (NIDA, the National Institute of Alcohol Abuse and Alcoholism (NIAAA), the National Institute of Mental Health (NIMH), SAMHSA, and other government agencies;

• Developing and updating state-of-the-art research-based curricula, including curricula based on new and revised Treatment Improvement Protocols (TIPs), and developing faculty and trainers;

• Enhancing the clinical and cultural competencies of professionals from a variety of disciplines to help individuals with substance abuse problems;

• Upgrading standards of professional practice for addictions workers;

• Serving as technical resources to community-based and faith-based organizations, consumers and recovery organizations, and other stakeholders; and

• Providing feedback from the field to SAMHSA regarding the development of a comprehensive agenda for learning about and applying state-of-the-art treatment approaches.

The ATTCs are currently organized as 14 Regional Centers and one national coordinating center (National ATTC Office—NATTC). This organizational structure was predicated on the belief that the ATTCs can more effectively advance the addiction field through a unified effort among a coordinated network of education and training centers than through a number of free-standing centers. The NATTC serves a coordinating function, building and maintaining a viable infrastructure that promotes internal and external communication among the ATTC Network and between the Network and its various audiences.

Core Priorities of the Current ATTCs

A major focus of he ATTCs has been on professional development and training the workforce in the adoption of evidence-based practices to improve the provision of treatment for substance use disorders. In addition to training substance use disorders counselors, the ATTCs have trained professionals from related disciplines including social workers, criminal justice workers, nurses, and other allied health professionals. The blending of science and service is particularly evident in the NIDA/SAMHSA Blending Research and Practice Initiative carried out by the ATTCs. Using evidence-based protocols developed by NIDA's Clinical Trials Network (CTN), teams from the CTN and the ATTCs work together to create toolkits and training material for dissemination to the field. This project exemplifies collaboration between research and practice and serves as an illustration of technology transfer.

Working with the International Coalition for Addiction Studies Education (INCASE), the ATTCs have promoted professional development activities for addictions educators. For example, they have conducted training for addictions educators and have disseminated “curriculum infusion packages,” resource materials on specific topics in addictions studies that educators can use to update their course materials. Several of the ATTCs provide pre-service training for individuals in academic settings preparing for a career as a substance use disorder professional. This training is provided both in classroom settings and through on-line courses.

With the continuing aging of the addiction treatment workforce, the need for emerging leaders has been well noted. The ATTCs have offered a leadership training program in each region to help prepare the next generation of leaders in the field. This intensive program pairs emerging leaders with mentors, thereby offering opportunities for ongoing dialogue and support.

In addition, many of the ATTCs have conducted workforce surveys in their respective regions that provide demographic, job satisfaction, training/educational, and retention and recruitment information. These surveys have been a vital source of data on workforce conditions and trends in the past several years, particularly in the absence of any national survey of the substance use disorders treatment workforce.

ATTCs also work to support the recovery community through educational programs, development of materials, collaboration on special initiatives and support of Recovery Month activities.

The NATTC serves a coordinating role for the ATTC Regional Centers and hosts a Web site that provides many important resources to the field, such as:

• Addiction Science Made Easy—a library of cutting-edge research articles taken from the Journal of Alcoholism: Clinical and Experimental Research and re-written in lay terms.

• Addiction ED—a catalogue of addiction-related distance education opportunities offered by organizations around the world.

• Certification Info—a listing of State, national and international licensing and credentialing information for alcohol and drug counselors.

• ATTC Publication Catalog—a directory of ATTC Network products and resources including curricula, videos, presenter materials, and trainings.

• Eye on the Field—a monthly electronic magazine which features important topics in substance abuse treatment and provides useful tools for practitioners and administrators.

The National Office has also hosted committees with representation from the regional ATTCs and experts from the field that have produced such products as the TAP 21 Addiction Counseling Competencies and The Change Book. These publications have been milestones in the addiction treatment field, helping set national competency standards and a process to adopt evidence-based practices respectively.

New Request for Applications

For FY 2007, SAMHSA will be issuing a new Request for Applications (RFA) for the ATTC program. The FY 2007 President's Budget requests approximately $8.1 million for the ATTCs, about the same funding level as the current program. At this time, SAMHSA does not anticipate changing the number of ATTCs from the current number (i.e., 14 Regional Centers and 1 national coordinating center); however, SAMHSA might consider changing the geographic areas each ATTC regional center covers. To assist SAMHSA in developing the RFA, SAMHSA is seeking input from stakeholders and interested parties on a number of issues relating to these cooperative agreements.

SAMHSA wants to explore how the ATTCs can provide more equitable access to ATTC services throughout the States. The current ATTC regions vary greatly in population, square miles covered, and number of treatment facilities within their borders. Therefore, SAMHSA is seeking comments on possible alternative regional configurations that may address some of these differences.

SAMSHA has researched the population, square miles covered, and number of treatment facilities in the current ATTC regions, as well as the regions used by CSAT's Division of State and Community Assistance (DSCA), the Department of Health and Human Services (DHHS) Public Health Service, and the DHHS Health Resources and Services Administration (HRSA) regions. This information is presented in the table below.

Table. 1.—Regions by Population, Square Miles, and Treatment Facilities
Entity | Number of regions | Range of population in the regions | Range of square miles in the regions | Range of treatment providers in the regions
Current ATTCs | * 14 | 3,809,000-45,154,000 | 5,330-830,670 | 199-2,747
DSCA | 5 | 47,560,000-65,948,000 | 178,510-1,542,760 | 2,764-4,133
HHS | 10 | 9,327,000-53,252,000 | 61,400-824,290 | 915-3,152
HRSA | 11 | 9,987,000-47,241,000 | 56,070-971,540 | 386-2,938
* Plus a Coordinating Center.

The tables below give a state-by-state breakout for each of the four regional structures shown above.

Region | State
ATTC Regions
New England | ME, NH, VT, MA, CT, RI.
Northeast | NY, NJ, PA.
Central East | DC, DE, KY, TN, MD.
Mid-Atlantic | VA, MD, NC, WV.
Southeast | GA, SC.
Southern Coast | AL, FL.
Caribbean Basin & Hispanic | PR, VI.
Great Lakes | IL, OH, WI, IN, MI.
Prairielands | IA, NE, ND, SD, MN.
Mid-America | MO, KS, OK, AR.
Gulf Coast | TX, LA, MS.
Pacific Southwest | CA, AZ, NM.
Mountain West | NV, MT, WY, UT, CO.
Northwest Frontier | AK, WA, OR, ID, HI, Pac. Isl.
HHS Regions
I | ME, NH, VT, MA, CT, RI.
II | NY, NJ, PR, VI.
III | MD, VA, WV, PA, DE, DC.
IV | AL, FL, GA, KY, MS, NC, SC, TN.
V | IL, IN, OH, MI, MN, WI.
VI | AR, LA, NM, OK, TX.
VII | IA, KS, MO, NE.
VIII | CO, MT, ND, SD, UT, WY.
IX | AZ, CA, HI, NV, Pac. Isl.
X | AK, ID, OR, WA.
DSCA Regions
Northeast | ME, NH, VT, MA, CT, RI, NY, NJ, PA, DC, DE, MD.
Southeast | PR, VI, VA, WV, KY, TN, MS, AL, GA, SC, NC, FL.
Central | IA, ND, SD, MN, IL, OH, WI, IN, MI.
Southwest | NE, CO, KS, MO, AR, OK, NM, TX, LA.
Western | CA, MT, WY, NV, UT, AZ, AK, WA, OR, ID, HI, Pac. Isl.
HRSA Regions
New England | ME, NH, VT, MA, CT, RI.
New York/New Jersey | NY, NJ.
Pennsylvania/Mid-Atlantic | PA, OH, WV, VA, MD, DC, DE.
Southeast | KY, TN, NC, SC, AL, GA.
Florida/Caribbean | PR, VI, FL.
Delta Region | AR, LA, MS.
Midwest | MN, WI, MI, IN, IL, IA, MO.
Oklahoma/Texas | OK, TX.
Mountain Plains | ND, SD, WY, UT, CO, NE, KS, NM.
Pacific | CA, NV, AZ.
Northwest | WA, ID, MT, OR.

In addition to the factors discussed above, there are a number of critical program priorities or cross-cutting principles affecting the addiction treatment field that need to be addressed by professionals providing services. SAMHSA is seeking guidance on whether it would be advisable to have the ATTCs house of Centers of Excellence on the critical priorities. The products and resources developed by these Centers of Excellence could then be disseminated throughout the ATTC Network and the field. This would avoid duplication of effort while addressing important clinical issues.

SAMHSA also seeks input from the field on what the ATTC priorities should be. In view of the pivotal role the ATTCs have played in bridging the gap between science and service, and in gathering data on the workforce, they are an integral component of SAMHSA's workforce development efforts. Recruitment and retention, leadership and management skills, and increasing the diversity of the workforce have been identified as key workforce issues. What role, if any, should the ATTCs have on these subjects?

SAMHSA funds the Centers for the Application of Prevention Technologies (CAPTs) through the Center for Substance Abuse Prevention. The CAPTs assist State/jurisdictions and community-based organizations in the application of evidence-based substance abuse prevention programs, practices, and policies. The CAPT system is a practical tool to increase the impact of the knowledge and experience that defines what works best in prevention programming. Because knowledge application is a prime focus of both the ATTCs and CAPTs, SAMHSA is seeking input on what the relationship should be between the ATTCs and the CAPTs.

Questions To Consider in Making Your Comments

SAMHSA/CSAT is seeking response to questions on a number of issues regarding the configuration of the ATTC regions, the areas of emphasis, and the relationship with CAPTs, including the following:

• What should be the major areas of emphasis for the ATTCs?

• How well do the current priorities and activities of the ATTCs meet the needs of the field? Are there some activities the ATTCs are currently undertaking that are no longer necessary? Are there activities related to workforce development or other topics the ATTCs should be doing that they are not currently doing?

• How should ATTC activities be coordinated with those of the CAPTs and other similar centers maintained by other Federal agencies?

• Who should be the primary audiences for/recipients of ATTC services?

• Should the ATTCs be organized around Centers for Excellence? If so, what topics should these Centers address?

• What should the role of the National ATTC Coordinating Center be?

• What types of services and products should the ATTCs provide?

• Should the ATTCs function primarily as independent regional centers or as a unified network collaborating to provide services and products to the field a large?

• How well does the current geographic configuration of the regional ATTCs meet the needs of the various constituents, including the States, providers, and practitioners?

• How well does the current geographic configuration of the ATTCs provide effective and equitable delivery of technology transfer services throughout the State?

• Are there alternative regional configurations for the ATTCs that could provide more equitable access to ATTC services throughout the Nation?

Dated: July 20, 2006.
Eric B. Broderick,
Acting Deputy Administrator, Assistant Surgeon General, Substance Abuse and Mental Health Services, Administration.

[FR Doc. 06-6500 Filed 7-26-06; 8:45 am]

BILLING CODE 4162-20-M